FEDERAL COMMUNICATIONS COMMISSION

47 CFR Parts 1 and 27

[WT Docket No. 12-357; Report No. 2991]

Petition for Reconsideration of Action in Rulemaking Proceeding

AGENCY: Federal Communications Commission.

ACTION: Petition for reconsideration.

SUMMARY: In this document, a Petition for Reconsideration (Petition) has been filed in the Commission's Rulemaking proceeding by Caressa D. Bennet on behalf of Rural Wireless Association, Inc.

DATES: Oppositions to the Petition must be filed on or before November 12, 2013. Replies to an opposition must be filed on or before November 22, 2013.

ADDRESSES: Federal Communications Commission, 445 12th Street SW., Washington, DC 20554.

FOR FURTHER INFORMATION CONTACT: Matthew Pearl, Wireless, Telecommunications Bureau, phone: (202) 418-2607, or (202) 418-7233.

SUPPLEMENTARY INFORMATION: This is a summary of Commission's document, Report No. 2991, released September 20, 2013. The full text of Report No. 2991 is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Service Rules for Advanced Wireless Services H Block Implementing Section 6401 of the Middle Class Tax Relief and Job Creation Act of 2012 Related to the 1915-1920 MHz and 1995-2000 MHz Bands, published at 78 FR 50213, August 16, 2013, and published pursuant to 47 CFR 1.429(e). See also § 1.4(b)(1) of the Commission's rules.

Number of Petitions Filed: 1

Federal Communications Commission.
Marlene H. Dortch,
Secretary, Office of the Secretary, Office of Managing Director.

[FR Doc. 2013-25345 Filed 10-25-13; 8:45 am]

BILLING CODE 6712-01-P